DEPARTMENT OF COMMERCE

International Trade Administration

[A-570-051]

Certain Hardwood Plywood Products From the People's Republic of China: Preliminary Affirmative Determination of Sales at Less Than Fair Value, Preliminary Affirmative Determination of Critical Circumstances, in Part

AGENCY: Enforcement and Compliance, International Trade Administration, Department of Commerce.

SUMMARY: The Department of Commerce (the Department) preliminarily determines that certain hardwood plywood products (hardwood plywood) from the People's Republic of China (PRC) are being, or are likely to be, sold in the United States at less than fair value (LTFV). The period of investigation (POI) is April 1, 2016, through September 30, 2016.

DATES: Effective June 23, 2017.

FOR FURTHER INFORMATION CONTACT: Amanda Brings or Ryan Mullen, AD/CVD Operations, Office V, Enforcement and Compliance, International Trade Administration, U.S. Department of Commerce, 1401 Constitution Avenue NW., Washington, DC 20230; telephone: (202) 482-3927 or (202) 482-5260, respectively.

SUPPLEMENTARY INFORMATION:

Background

This preliminary determination is made in accordance with section 733(b) of the Tariff Act of 1930, as amended (the Act). The Department published the notice of initiation of this investigation on December 16, 2016.¹ On February 27, 2017, the Department postponed the preliminary determination of this investigation and the revised deadline is now June 16, 2017.² For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be accessed directly at http://enforcement.trade.gov/frn/. The signed and the electronic versions of the Preliminary Decision Memorandum are identical in content.

¹ See Certain Hardwood Plywood Products from the People's Republic of China: Initiation of Less-Than-Fair-Value Investigation, 81 FR 91125 (December 16, 2016) (Initiation Notice).

² See Certain Hardwood Plywood Products from the People's Republic of China: Postponement of Preliminary Determination of Antidumping Duty Investigation, 82 FR 12538 (March 6, 2017).

³ See Memorandum, “Decision Memorandum for the Preliminary Determination in the Less-Than-Fair-Value Investigation of Certain Hardwood Plywood Products from the People's Republic of China,” dated concurrently with, and hereby adopted by, this notice (Preliminary Decision Memorandum).

Scope of the Investigation

The product covered by this investigation is hardwood plywood from the PRC. For a complete description of the scope of this investigation, see Appendix I.

Scope of Comments

In accordance with the preamble to the Department's regulations,⁴ the Initiation Notice set aside a period of time for parties to raise issues regarding product coverage (scope).⁵ Certain interested parties commented on the scope of the investigation as it appeared in the Initiation Notice. For a summary of the product coverage comments and rebuttal responses submitted to the record for this investigation, and accompanying discussion and analysis of all comments timely received, see the Department's Preliminary Scope Decision Memorandum and the Department's Additional Preliminary Scope Decision Memorandum.⁶ The Department is preliminarily modifying the scope language as it appeared in the Initiation Notice. See the revised scope in Appendix I to this notice.

⁴ See Antidumping Duties; Countervailing Duties, Final Rule, 62 FR 27296, 27323 (May 19, 1997).

⁵ See Initiation Notice.

⁶ See Memorandum, “Certain Hardwood Plywood Products from the People's Republic of China: Scope Comments Decision Memorandum for the Preliminary Determinations” (Preliminary Scope Decision Memorandum), dated April 17, 2017, and hereby adopted by, this preliminary determination; Memorandum, “Certain Hardwood Plywood Products from the People's Republic of China: Additional Scope Comments Preliminary Decision Memorandum and Extension of Deadlines for Scope Case Briefs and Scope Rebuttal Briefs” (Additional Preliminary Scope Decision Memorandum), dated concurrently with, and hereby adopted by, this preliminary determination.

Methodology

The Department is conducting this investigation in accordance with section 731 of the Act. The Department calculated export prices in accordance with section 772(a) of the Act. Because the PRC is a non-market economy, within the meaning of section 771(18) of the Act, the Department calculated normal value (NV) in accordance with section 773(c) of the Act. In addition, pursuant to sections 776(a) and (b) of the Act, the Department preliminarily relied upon facts otherwise available, with adverse inferences, for Shandong Dongfang Bayley Wood Co., Ltd. (Bayley), certain separate rate applicants, and the PRC-wide entity. As the Department preliminarily determined that Bayley is not entitled to a separate rate, the company is included within the PRC-wide entity. For a full description of the methodology underlying the Department's preliminary determination, see the Preliminary Decision Memorandum.

Preliminary Affirmative Determination of Critical Circumstances, in Part

In accordance with section 733(e) of the Act and 19 CFR 351.206, the Department preliminarily determines that critical circumstances exist with respect to imports of hardwood plywood from the PRC for certain separate rate respondents and the PRC-wide entity (of which Bayley and certain separate rate respondents are a part), but do not exist for Linyi Chengen Import and Export Co., Ltd. and certain separate rate respondents. For a full description of the methodology and results of the Department's critical circumstances analysis, see the Preliminary Decision Memorandum.

Combination Rates

In the Initiation Notice,⁷ the Department stated that it would calculate producer/exporter combination rates for the respondents that are eligible for a separate rate in this investigation. Policy Bulletin 05.1 describes this practice.⁸

⁷ See Initiation Notice at 91129.

⁸ See Enforcement and Compliance's Policy Bulletin No. 05.1, regarding, “Separate-Rates Practice and Application of Combination Rates in Antidumping Investigations involving Non-Market Economy Countries,” (April 5, 2005) (Policy Bulletin 05.1), available on the Department's Web site at http://enforcement.trade.gov/policy/bull05-1.pdf.

Preliminary Determination

The Department preliminarily determines that the following estimated weighted-average dumping margins exist:

Exporter | Producer | Estimated weighted- average dumping margin (percent) | Cash deposit rate (percent)
Linyi Chengen Import and Export Co., Ltd | Linyi Dongfangjuxin Wood Co., Ltd | 00.00 | 00.00
Anhui Hoda Wood Co., Ltd | Feixian Jianxin Board Factory | 57.36 | 57.07
Anhui Hoda Wood Co., Ltd | Linyi Xicheng Wood Co., Ltd | 57.36 | 57.07
Anhui Hoda Wood Co., Ltd | Linyi Longxin Wood Co., Ltd | 57.36 | 57.07
Anhui Hoda Wood Co., Ltd | Fengxian Jihe Wood Co., Ltd | 57.36 | 57.07
Anhui Hoda Wood Co., Ltd | Xuzhou Chunyiyang Wood Co., Ltd | 57.36 | 57.07
Anhui Hoda Wood Co., Ltd | Linyi Lanshan District Xiangfeng Decorative Board Factory | 57.36 | 57.07
Anhui Hoda Wood Co., Ltd | Linyi Lanshan District Fubai Wood Board Factory | 57.36 | 57.07
Anhui Hoda Wood Co., Ltd | Shandong Jubang Wood Co., Ltd | 57.36 | 57.07
Anhui Hoda Wood Co., Ltd | Feixian Shangye Town Mingda Multi-layered Board Factory | 57.36 | 57.07
Anhui Hoda Wood Co., Ltd | Xuzhou Dayuan Wood Co., Ltd | 57.36 | 57.07
Anhui Hoda Wood Co., Ltd | Linyi Mingzhu Wood Co., Ltd | 57.36 | 57.07
Anhui Hoda Wood Co., Ltd | Linyi Renlin Wood Co., Ltd | 57.36 | 57.07
Celtic Co., Ltd | Linyi Celtic Wood Co., Ltd | 57.36 | 57.07
Celtic Co., Ltd | Pinyi Fuhua Wood Co., Ltd | 57.36 | 57.07
China Friend Limited | Feixian Wanda Wood Factory | 57.36 | 57.07
China Friend Limited | Shandong Huaxin Jiasheng Wood Co., Ltd | 57.36 | 57.07
China Friend Limited | Feixian Xinhe Wood Co., Ltd | 57.36 | 57.07
China Friend Limited | Shandong Dongfang Bayley Wood Co., Ltd | 57.36 | 57.07
China Friend Limited | Xuzhou Yujinfang Wood Co., Ltd | 57.36 | 57.07
China Friend Limited | Linyi Huifeng Wood Industry Co., Ltd | 57.36 | 57.07
China Friend Limited | Linyi Dongfangjuxin Wood Co., Ltd | 57.36 | 57.07
Cosco Star International Co., Ltd | Linyi Huasheng Yongbin Wood Corp | 57.36 | 57.07
Cosco Star International Co., Ltd | Suining Pengxiang Wood Co., Ltd | 57.36 | 57.07
Cosco Star International Co., Ltd | Pizhou Jiangshan Wood Co., Ltd | 57.36 | 57.07
Cosco Star International Co., Ltd | Shandong Union Wood Co. Ltd | 57.36 | 57.07
Cosco Star International Co., Ltd | Linyi Sanfortune Wood Co. Ltd | 57.36 | 57.07
Cosco Star International Co., Ltd | Shandong Anxin Timber Co., Ltd | 57.36 | 57.07
Cosco Star International Co., Ltd | Linyi Evergreen Wood Co., Ltd | 57.36 | 57.07
Cosco Star International Co., Ltd | Shandong Huaxin Jiasheng Wood Co., Ltd | 57.36 | 57.07
Cosco Star International Co., Ltd | Xuzhou Shenghe Wood Co., Ltd | 57.36 | 57.07
Cosco Star International Co., Ltd | Pengyi Jinniu Wood Co., Ltd | 57.36 | 57.07
Cosco Star International Co., Ltd | Linyi Celtic Wood Co., Ltd | 57.36 | 57.07
Cosco Star International Co., Ltd | Linyi Laiyi Timber Industry Co., Ltd | 57.36 | 57.07
Cosco Star International Co., Ltd | Feixian Hongqiang Wood Co., Ltd | 57.36 | 57.07
Cosco Star International Co., Ltd | Feixan Xingying Wood Co., Ltd | 57.36 | 57.07
Cosco Star International Co., Ltd | Linyi City Lanshan District Fubo Wood Factory | 57.36 | 57.07
Deqing China-Africa Foreign Trade Port Co., Ltd | Suqian Welcomewood Products CO., LTD | 57.36 | 57.07
Deqing China-Africa Foreign Trade Port Co., Ltd | Feixian Hongqiang Wooden Products CO., LTD | 57.36 | 57.07
Feixian Jinde Wood Factory | Feixian Jinde Wood Factory | 57.36 | 57.07
Feixian Longteng Wood Co., Ltd | Feixian Longteng Wood Co., Ltd | 57.36 | 57.07
Golder International Trade Co., Ltd | Fengxian Shuangxingyuan Wood Co., Ltd | 57.36 | 57.07
Golder International Trade Co., Ltd | Fengxian Fangyuan Wood Co., Ltd | 57.36 | 57.07
Golder International Trade Co., Ltd | Pizhou Jinuoyuan Wood Co., Ltd | 57.36 | 57.07
Golder International Trade Co., Ltd | Xuzhou Changcheng Wood Co., Ltd | 57.36 | 57.07
Golder International Trade Co., Ltd | Xuzhou Jiamei Wood Co., Ltd | 57.36 | 57.07
G.D. Enterprise Limited | International Wood Products (Kunshan) Co., Ltd | 57.36 | 57.07
Happy Wood Industrial Group Co., Ltd | Happy Wood Industrial Group Co., Ltd | 57.36 | 57.07
Henan Hongda Woodcraft Industry Co., Ltd | Henan Hongda Woodcraft Industry Co., Ltd | 57.36 | 57.07
Highland Industries Inc | Weifang Hanlin Timber Producers Co. Ltd | 57.36 | 57.07
Highland Industries Inc | Anqiu Hengrui Wood Co., Ltd | 57.36 | 57.07
Highland Industries Inc | Weifang Chenglin Wood Industry Co., Ltd | 57.36 | 57.07
Huainan Mengping Import and Export Co., Ltd | Linyi Qianfeng Panel Factory Co., Ltd | 57.36 | 57.07
Jiangsu High Hope Arser Co., Ltd | Shandong Dongfang Bayley Wood Co., Ltd | 57.36 | 57.07
Jiangsu High Hope Arser Co., Ltd | Xuzhou Zhongtong Wood Co., Ltd | 57.36 | 57.07
Jiangsu High Hope Arser Co., Ltd | Pizhou Arser Wood Co., Ltd | 57.36 | 57.07
Jiangsu High Hope Arser Co., Ltd | Linyi Jinghai Wood Products Factory | 57.36 | 57.07
Jiangsu Qianjiuren International Trading Co., Ltd | Jiangsu Shuren Wood Co., Ltd | 57.36 | 57.07
Jiangsu Shengyang Industrial Joint Stock Co., Ltd | Jiangsu Shengyang Industrial Joint Stock Co., Ltd | 57.36 | 57.07
Jiangsu Top Point International Co., Ltd | Linyi Jinkun Wood Co., Ltd | 57.36 | 57.07
Jiangsu Top Point International Co., Ltd | Feixian Huafeng Wood Co., Ltd | 57.36 | 57.07
Jiangsu Top Point International Co., Ltd | Feixian Xindongfang Wood Co., Ltd | 57.36 | 57.07
Jiangsu Top Point International Co., Ltd | Feixian Fuyang Plywood Factory | 57.36 | 57.07
Jiangsu Top Point International Co., Ltd | Fengxian Shuangxingyuan Wood Co., Ltd | 57.36 | 57.07
Jiangsu Top Point International Co., Ltd | Linyi Celtic Wood Co., Ltd | 57.36 | 57.07
Jiashan Dalin Wood Industry Co., Ltd | Jiashan Dalin Wood Industry Co., Ltd | 57.36 | 57.07
Jiaxing Gsun Imp. & Exp. Co., Ltd | Fengxian Hengyuan Wood Industry Co., Ltd | 57.36 | 57.07
Jiaxing Gsun Imp. & Exp. Co., Ltd | Feixian Junyang Wood Industry Co., Ltd | 57.36 | 57.07
Jiaxing Gsun Imp. & Exp. Co., Ltd | Feixian Junbang Wood Factory | 57.36 | 57.07
Jiaxing Gsun Imp. & Exp. Co., Ltd | Linyi City Lanshan District Mingda Wood Factory | 57.36 | 57.07
Jiaxing Gsun Imp. & Exp. Co., Ltd | Feixian Hongyun Wood Factory | 57.36 | 57.07
Jiaxing Gsun Imp. & Exp. Co., Ltd | Linyi City Lanshan District Xiangfeng Wood Decoration Factory | 57.36 | 57.07
Jiaxing Gsun Imp. & Exp. Co., Ltd | Shandong Jubang Wood Co., Ltd | 57.36 | 57.07
Jiaxing Gsun Imp. & Exp. Co., Ltd | Feixian Yixin Wood Processing Factory | 57.36 | 57.07
Jiaxing Gsun Imp. & Exp. Co., Ltd | Pizhou Wantai Wood Industry Co., Ltd | 57.36 | 57.07
Jiaxing Gsun Imp. & Exp. Co., Ltd | Feixian Fengxiang Wood Processing Factory | 57.36 | 57.07
Jiaxing Gsun Imp. & Exp. Co., Ltd | Shandong Compete Wood Co., Ltd. | 57.36 | 57.07
Jiaxing Gsun Imp. & Exp. Co., Ltd | Linyi Kunyu Plywood Factory | 57.36 | 57.07
Jiaxing Hengtong Wood Co., Ltd | Jiaxing Hengtong Wood Co., Ltd | 57.36 | 57.07
Jiaxing Kaochuan Woodwork Co., Ltd | Jiaxing Kaochuan Woodwork Co., Ltd | 57.36 | 57.07
Leadwood Industrial Corp | Leadwood Industrial Corp | 57.36 | 57.07
Lianyungang Yuantai International Trade Co., Ltd | Xinyi Chaohua Wood Co., Ltd | 57.36 | 57.07
Lianyungang Yuantai International Trade Co., Ltd | Linyi Huasheng Yongbin Wood Corp | 57.36 | 57.07
Lianyungang Yuantai International Trade Co., Ltd | Linyi City Lanshan District Baoshan Wood Factory | 57.36 | 57.07
Lianyungang Yuantai International Trade Co., Ltd | Pizhou Yuanxing Wood Co., Ltd | 57.36 | 57.07
Lianyungang Yuantai International Trade Co., Ltd | Linyi Celtic Wood Co., Ltd | 57.36 | 57.07
Lianyungang Yuantai International Trade Co., Ltd | Linyi City Lanshan District Fubo Wood Factory | 57.36 | 57.07
Lianyungang Yuantai International Trade Co., Ltd | Fei County Hongsheng Wood Co., Ltd | 57.36 | 57.07
Lianyungang Yuantai International Trade Co., Ltd | Xuzhou Hongwei Wood Co., Ltd | 57.36 | 57.07
Lianyungang Yuantai International Trade Co., Ltd | Pizhou Jinguoyuan Wood Co., Ltd | 57.36 | 57.07
Lianyungang Yuantai International Trade Co., Ltd | Feixian Wanda Wood Co., Ltd | 57.36 | 57.07
Lianyungang Yuantai International Trade Co., Ltd | Fengxian Shuangxingyuan Wood Co., Ltd | 57.36 | 57.07
Lianyungang Yuantai International Trade Co., Ltd | Feixian Hongqiang Wood Co., Ltd | 57.36 | 57.07
Lianyungang Yuantai International Trade Co., Ltd | Linyi City Lanshan District Fuerda Wood Factory | 57.36 | 57.07
Lianyungang Yuantai International Trade Co., Ltd | Fengxian Hengyuan Wood Industry Co., Ltd | 57.36 | 57.07
Lianyungang Yuantai International Trade Co., Ltd | Feixian Xingying Wood Co., Ltd | 57.36 | 57.07
Lianyungang Yuantai International Trade Co., Ltd | Shandong Jubang Wood Co., Ltd | 57.36 | 57.07
Lianyungang Yuantai International Trade Co., Ltd | Feixian Junyang Wood Industry Co., Ltd | 57.36 | 57.07
Lianyungang Yuantai International Trade Co., Ltd | Feixian Junbang Wood Factory | 57.36 | 57.07
Lianyungang Yuantai International Trade Co., Ltd | Feixian Hongyun Wood Factory | 57.36 | 57.07
Lianyungang Yuantai International Trade Co., Ltd | Linyi City Lanshan District Xiangfeng Wood Decoration Factory | 57.36 | 57.07
Lianyungang Yuantai International Trade Co., Ltd | Linyi Renlin Wood Industry Co., Ltd | 57.36 | 57.07
Lianyungang Yuantai International Trade Co., Ltd | Linyi City Lanshan District Mingda Wood Factory | 57.36 | 57.07
Linyi City Dongfang Fukai Wood Industry Co., Ltd | Linyi City Dongfang Fukai Wood Industry Co., Ltd | 57.36 | 57.07
Linyi City Dongfang Jinxin Economic and Trade Co., Ltd | Linyi City Dongfang Jinxin Economic and Trade Co., Ltd | 57.36 | 57.07
Linyi City Shenrui International Trade Co., Ltd | Linyi City Dongfang Fuchao Wood Co., Ltd | 57.36 | 57.07
Linyi City Shenrui International Trade Co., Ltd | Feixian Zhenghua Wood Factory | 57.36 | 57.07
Linyi Dahua Wood Co., Ltd | Linyi Dahua Wood Co., Ltd | 57.36 | 57.07
Linyi Evergreen Wood Co., Ltd | Linyi Evergreen Wood Co., Ltd | 57.36 | 57.07
Linyi Glary Plywood Co., Ltd | Linyi Glary Plywood Co., Ltd | 57.36 | 57.07
Linyi Hengsheng Wood Industry Co., Ltd | Linyi Hengsheng Wood Industry Co., Ltd | 57.36 | 57.07
Linyi Huasheng Yongbin Wood Co., Ltd | Linyi Huasheng Yongbin Wood Co., Ltd | 57.36 | 57.07
Linyi Jiahe Wood Industry Co., Ltd | Linyi Jiahe Wood Industry Co., Ltd | 57.36 | 57.07
Linyi Linhai Wood Co., Ltd | Linyi Linhai Wood Co., Ltd | 57.36 | 57.07
Linyi Mingzhu Wood Co., Ltd | Linyi Mingzhu Wood Co., Ltd | 57.36 | 57.07
Linyi Sanfortune Wood Co., Ltd | Linyi Sanfortune Wood Co., Ltd | 57.36 | 57.07
Linyi Tian He Wooden Industry Co., Ltd | Linyi Tian He Wooden Industry Co., Ltd | 57.36 | 57.07
Pingyi Jinniu Wood Co., Ltd | Pingyi Jinniu Wood Co., Ltd | 57.36 | 57.07
Pizhou Dayun Import & Export Trade Co., Ltd | Xuzhou Camry Wood Co., Ltd | 57.36 | 57.07
Pizhou Jin Sheng Yuan International Corp., Ltd | Xuzhou Chengxin Wood Co., Ltd | 57.36 | 57.07
Pizhou Jin Sheng Yuan International Corp., Ltd | Xuzhou Golden River Wood Co., Ltd | 57.36 | 57.07
Qingdao Good Faith Import and Export Co., Ltd | Linyi Fubo Wood Co., Ltd | 57.36 | 57.07
Qingdao Good Faith Import and Export Co., Ltd | Linyi Tuopu Zhixin Wooden Industry Co., Ltd | 57.36 | 57.07
Qingdao Good Faith Import and Export Co., Ltd | Linyi Haisen Wood Co., Ltd | 57.36 | 57.07
Qingdao Good Faith Import and Export Co., Ltd | Linyi Jubang Wood Co., Ltd | 57.36 | 57.07
Qingdao Good Faith Import and Export Co., Ltd | Xuzhou Changcheng Wood Co., Ltd | 57.36 | 57.07
Qingdao Good Faith Import and Export Co., Ltd | Xuzhou Jinguoyuan Wood Co., Ltd | 57.36 | 57.07
Qingdao Good Faith Import and Export Co., Ltd | Xuzhou Xuexin Wood Co., Ltd | 57.36 | 57.07
Qingdao Good Faith Import and Export Co., Ltd | Anhui Fuyang Qinglin Wood Products Co., Ltd | 57.36 | 57.07
Qingdao Good Faith Import and Export Co., Ltd | Anhui Huijin Wood Co., Ltd | 57.36 | 57.07
Qingdao Good Faith Import and Export Co., Ltd | Anhui Lingfeng Wood Co., Ltd | 57.36 | 57.07
Qingdao Good Faith Import and Export Co., Ltd | Suzhou Dongsheng Wood Co., Ltd | 57.36 | 57.07
Qingdao Good Faith Import and Export Co., Ltd | Pizhou Zhongxin Wood Co., Ltd | 57.36 | 57.07
Qingdao Good Faith Import and Export Co., Ltd | Xuzhou Spring Art Yang Wood Industry Co., Ltd | 57.36 | 57.07
Qingdao Top P&Q International Corp | Linyi Dahua Wood Products Co., Ltd | 57.36 | 57.07
Qingdao Top P&Q International Corp | Yutai Zezhong Wood Products Co., Ltd | 57.36 | 57.07
Qingdao Top P&Q International Corp | Linyi Evergreen Wood Products Co., Ltd | 57.36 | 57.07
Qingdao Top P&Q International Corp | Suzhou Dongsheng Wood Co., Ltd | 57.36 | 57.07
Qingdao Top P&Q International Corp | Shandong Dongfang Bayley Wood Products Co., Ltd | 57.36 | 57.07
Qingdao Top P&Q International Corp | Feixian Tanyi Youchengjiafu Wood Products Co., Ltd | 57.36 | 57.07
Qingdao Top P&Q International Corp | Feixian Mingteng Wood Products Co., Ltd | 57.36 | 57.07
Qingdao Top P&Q International Corp | Linyi Dahua Wood Products Co., Ltd | 57.36 | 57.07
Qingdao Top P&Q International Corp | Yutai Zezhong Wood Products Co., Ltd | 57.36 | 57.07
Qingdao Top P&Q International Corp | Linyi Qianfeng Wood Products Co., Ltd | 57.36 | 57.07
Qingdao Top P&Q International Corp | Shandong Jinqiu Wood Products Co., Ltd | 57.36 | 57.07
Qingdao Top P&Q International Corp | Linyi Laite Plywood Factory | 57.36 | 57.07
Qingdao Top P&Q International Corp | Xuzhou Chunyiyang Wood Products Co. Ltd | 57.36 | 57.07
Qingdao Top P&Q International Corp | Feixian Lijun Wood Products Co., Ltd | 57.36 | 57.07
Qingdao Top P&Q International Corp | Feixian Shuangfeng Wood Products Co., Ltd | 57.36 | 57.07
Qingdao Top P&Q International Corp | Linyi Longxin Wood Products Co., Ltd | 57.36 | 57.07
Qingdao Top P&Q International Corp | Linyi Lanshan Wanmei Wood Factory | 57.36 | 57.07
Qingdao Top P&Q International Corp | Feixian Xinhe Wood Products Co., Ltd | 57.36 | 57.07
Qingdao Top P&Q International Corp | Linyi Chenyuan Wood Products Co., Ltd | 57.36 | 57.07
Qingdao Top P&Q International Corp | Di Birch Wood Industry Co., Ltd | 57.36 | 57.07
Qingdao Top P&Q International Corp | Shandong Junxing Wood Products Co., Ltd | 57.36 | 57.07
Qingdao Top P&Q International Corp | Linyi Jiexin Wood Products Factory | 57.36 | 57.07
Qingdao Top P&Q International Corp | Xuzhou Fuyu Wood Industry Co., Ltd | 57.36 | 57.07
Qingdao Top P&Q International Corp | Jiangsu Lishun Industry And Trade Co., Ltd | 57.36 | 57.07
Qingdao Top P&Q International Corp | Linyi Evergreen Wood Products Co., Ltd | 57.36 | 57.07
Qingdao Top P&Q International Corp | Anhui Qinglin Wood Products Co., Ltd | 57.36 | 57.07
Qingdao Top P&Q International Corp | Linyi Haisen Wood Products Co., Ltd | 57.36 | 57.07
Qingdao Top P&Q International Corp | Linyi Hongze Plywood Factory | 57.36 | 57.07
Qingdao Top P&Q International Corp | Linyi Kaifeng Wood Products Co., Ltd | 57.36 | 57.07
Qingdao Top P&Q International Corp | Feixian Fugang Wood Products Co., Ltd | 57.36 | 57.07
Qingdao Top P&Q International Corp | Lanling Longziyun Wood Products Co., Ltd | 57.36 | 57.07
Qingdao Top P&Q International Corp | Linyi Fuerda Wood Products Co., Ltd | 57.36 | 57.07
Qingdao Top P&Q International Corp | Fengxian Shuangxingyuan Wood Co., Ltd | 57.36 | 57.07
Qingdao Top P&Q International Corp | Suzhou Dongsheng Wood Co., Ltd | 57.36 | 57.07
Qingdao Top P&Q International Corp | Feixan Dexin Wood Products Co., Ltd | 57.36 | 57.07
Qingdao Top P&Q International Corp | Shandong Dongfang Bayley Wood Products Co., Ltd | 57.36 | 57.07
Qingdao Top P&Q International Corp | Linyi Huifeng Wood Products Co., Ltd | 57.36 | 57.07
Qingdao Top P&Q International Corp | Feixian Kailin Wood Products Co., Ltd | 57.36 | 57.07
Shandong Huaxin Jiasheng Wood Co., Ltd | Shandong Huaxin Jiasheng Wood Co., Ltd | 57.36 | 57.07
Shandong Huiyu International Trade Co., Ltd | Linyi Huifeng Wood Products Co., Ltd | 57.36 | 57.07
Shandong Jinluda International Trade Co., Ltd | Shandong Union Wood Co., Ltd | 57.36 | 57.07
Shandong Jinluda International Trade Co., Ltd | Shandong Jinqiu Wood Co., Ltd | 57.36 | 57.07
Shandong Johnson Trading Co., Ltd | Fengxian Hengyuan Wood Industry Co., Ltd | 57.36 | 57.07
Shandong Johnson Trading Co., Ltd | Feixian Junyang Wood Industry Co., Ltd | 57.36 | 57.07
Shandong Johnson Trading Co., Ltd | Feixian Junbang Wood Factory | 57.36 | 57.07
Shandong Johnson Trading Co., Ltd | Linyi City Lanshan District Mingda Wood Factory | 57.36 | 57.07
Shandong Johnson Trading Co., Ltd | Feixian Hongyun Wood Factory | 57.36 | 57.07
Shandong Johnson Trading Co., Ltd | Linyi City Lanshan District Xiangfeng Wood Decoration Factory | 57.36 | 57.07
Shandong Johnson Trading Co., Ltd | Linyi Lanshan Yulin Wood Factory | 57.36 | 57.07
Shandong Johnson Trading Co., Ltd | Shandong Jubang Wood Co., Ltd | 57.36 | 57.07
Shandong Johnson Trading Co., Ltd | Feixian Yixin Wood Processing Factory | 57.36 | 57.07
Shandong Johnson Trading Co., Ltd | Linyi Renlin Wood Industry Co., Ltd | 57.36 | 57.07
Shandong Johnson Trading Co., Ltd | Xuzhou Dayuan Wood Industry Co., Ltd | 57.36 | 57.07
Shandong Johnson Trading Co., Ltd | Xuzhou Yuantai Wood Co., Ltd | 57.36 | 57.07
Shandong Johnson Trading Co., Ltd | Pizhou Wantai Wood Industry Co., Ltd | 57.36 | 57.07
Shandong Johnson Trading Co., Ltd | Feixian Desheng Wood Industry Factory | 57.36 | 57.07
Shandong Johnson Trading Co., Ltd | Xuzhou Zhongcai Wood Industry Co., Ltd | 57.36 | 57.07
Shandong Johnson Trading Co., Ltd | Feixian Fengxiang Wood Processing Factory | 57.36 | 57.07
Shandong Johnson Trading Co., Ltd | Shandong Compete Wood Co., Ltd | 57.36 | 57.07
Shandong Qishan International Trading Co., Ltd | Linyi Tuopu Zhixin Wooden Industry Co., Ltd | 57.36 | 57.07
Shandong Senmanqi Import & Export Co., Ltd | Shandong Jinqiu Wood Co., Ltd | 57.36 | 57.07
Shandong Shengdi International Trading Co., Ltd | Qufu Shengda Wood Co., Ltd | 57.36 | 57.07
Shanghai Brightwood Trading Co., Ltd | Linyi Jinghua Wood Industry Co., Ltd | 57.36 | 57.07
Shanghai Brightwood Trading Co., Ltd | Linyi Lianbang Wood Industry Co., Ltd | 57.36 | 57.07
Shanghai Brightwood Trading Co., Ltd | Linyi Huada Wood Industry Co., Ltd | 57.36 | 57.07
Shanghai Brightwood Trading Co., Ltd | Linyi Laite Board Factory | 57.36 | 57.07
Shanghai Brightwood Trading Co., Ltd | Linyi Yuqiao Board Factory | 57.36 | 57.07
Shanghai Brightwood Trading Co., Ltd | Feixian Huafeng Wood Industry Co., Ltd | 57.36 | 57.07
Shanghai Brightwood Trading Co., Ltd | Xuzhou Shuangxingyuan Wood Industry Co., Ltd | 57.36 | 57.07
Shanghai Brightwood Trading Co., Ltd | Linyi Youcheng Jiafu Wood Industry Co., Ltd | 57.36 | 57.07
Shanghai Brightwood Trading Co., Ltd | Linyi Lanshan Jinhao Board Factory | 57.36 | 57.07
Shanghai Brightwood Trading Co., Ltd | Siyang Dazhong Wood Product Factory | 57.36 | 57.07
Shanghai Brightwood Trading Co., Ltd | Binzhou Yongsheng Artificial Board Industrial Trade Co., Ltd | 57.36 | 57.07
Shanghai Brightwood Trading Co., Ltd | Linyi Senpeng Wood Industry Co., Ltd | 57.36 | 57.07
Shanghai Brightwood Trading Co., Ltd | Dangshan County Weidi Wood Industry Co., Ltd | 57.36 | 57.07
Shanghai Brightwood Trading Co., Ltd | Yutai County Zezhong Wood Industry Co., Ltd | 57.36 | 57.07
Shanghai Brightwood Trading Co., Ltd | Linyi Huasheng Yongbin Wood Co., Ltd | 57.36 | 57.07
Shanghai Brightwood Trading Co., Ltd | Linyi Hengan Wood Industry Co., Ltd | 57.36 | 57.07
Shanghai Futuwood Trading Co., Ltd | Linyi Jinghua Wood Industry Co., Ltd | 57.36 | 57.07
Shanghai Futuwood Trading Co., Ltd | Linyi Lianbang Wood Industry Co., Ltd | 57.36 | 57.07
Shanghai Futuwood Trading Co., Ltd | Linyi Huada Wood Industry Co., Ltd | 57.36 | 57.07
Shanghai Futuwood Trading Co., Ltd | Linyi Jinkun Wood Industry Co., Ltd | 57.36 | 57.07
Shanghai Futuwood Trading Co., Ltd | Linyi Yuqiao Board Factory | 57.36 | 57.07
Shanghai Futuwood Trading Co., Ltd | Linyi Laite Board Factory | 57.36 | 57.07
Shanghai Futuwood Trading Co., Ltd | Linyi Tuopu Zhixin Wooden Industry Co., Ltd | 57.36 | 57.07
Shanghai Futuwood Trading Co., Ltd | Feixian Huafeng Wood Industry Co., Ltd | 57.36 | 57.07
Shanghai Futuwood Trading Co., Ltd | Xuzhou Shuangxingyuan Wood Industry Co., Ltd | 57.36 | 57.07
Shanghai Futuwood Trading Co., Ltd | Linyi Youcheng Jiafu Wood Industry Co., Ltd | 57.36 | 57.07
Shanghai Futuwood Trading Co., Ltd | Shandong Qingyuan Wood Industry Co., Ltd | 57.36 | 57.07
Shanghai Futuwood Trading Co., Ltd | Linyi Lanshan Jinhao Board Factory | 57.36 | 57.07
Shanghai Futuwood Trading Co., Ltd | Linyi Lanshan Fubai Wood Industry Board Factory | 57.36 | 57.07
Shanghai Futuwood Trading Co., Ltd | Siyang Dazhong Wood Product Factory | 57.36 | 57.07
Shanghai Futuwood Trading Co., Ltd | Binzhou Yongsheng Artificial Board Industrial Trade Co., Ltd | 57.36 | 57.07
Shanghai Futuwood Trading Co., Ltd | Shandong Jinqiu Wood Industry Co., Ltd | 57.36 | 57.07
Shanghai Futuwood Trading Co., Ltd | Linyi Senpeng Wood Industry Co., Ltd | 57.36 | 57.07
Shanghai Futuwood Trading Co., Ltd | Xuzhou Heng'an Wood Industry Co., Ltd | 57.36 | 57.07
Shanghai Futuwood Trading Co., Ltd | Dangshan Weidi Wood Industry Co., Ltd | 57.36 | 57.07
Shanghai Futuwood Trading Co., Ltd | Fengxian Jihe Wood Industry Co., Ltd | 57.36 | 57.07
Shanghai Futuwood Trading Co., Ltd | Yutai Zezhong Wood Industry Co., Ltd | 57.36 | 57.07
Shanghai Futuwood Trading Co., Ltd | Linyi Huasheng Yongbin Wood Co., Ltd | 57.36 | 57.07
Shanghai Futuwood Trading Co., Ltd | Linyi Kaifeng Wood Board Factory | 57.36 | 57.07
Shanghai Futuwood Trading Co., Ltd | Linyi Mingda Wood Industry Co., Ltd | 57.36 | 57.07
Shanghai Futuwood Trading Co., Ltd | Yangxin County Xintong Decorative Materials Co., Ltd | 57.36 | 57.07
Shanghai Futuwood Trading Co., Ltd | Pingyi County Zhongli Wood Products Factory | 57.36 | 57.07
Shanghai Futuwood Trading Co., Ltd | Pingyi County Yuxin Board Factory | 57.36 | 57.07
Shanghai Futuwood Trading Co., Ltd | Linyi Mingzhu Wood Co., Ltd | 57.36 | 57.07
Shanghai Luli Trading Co., Ltd | Feixian Wanda Wood Factory | 57.36 | 57.07
Shanghai Luli Trading Co., Ltd | Shandong Huaxin Jiasheng Wood Co., Ltd | 57.36 | 57.07
Shanghai Luli Trading Co., Ltd | Feixian Xinhe Wood Co., Ltd | 57.36 | 57.07
Shanghai Luli Trading Co., Ltd | Xuzhou Yujinfang Wood Co., Ltd | 57.36 | 57.07
Shanghai Luli Trading Co., Ltd | Linyi Huifeng Wood Industry Co., Ltd | 57.36 | 57.07
Shanghai S&M Trade Co., Ltd | LinYi Celtic Wood Co., Ltd | 57.36 | 57.07
Shanghai S&M Trade Co., Ltd | Linyi Lanshan District Jinhao Wood Factory | 57.36 | 57.07
Shanghai S&M Trade Co., Ltd | Jiangsu Shuren Wood Industry Co., Ltd | 57.36 | 57.07
Shanghai S&M Trade Co., Ltd | Jiangsu Sending Wood Industry Co., Ltd | 57.36 | 57.07
Smart Gift International | LinYi Celtic Wood Co., Ltd | 57.36 | 57.07
Smart Gift International | Linyi Lanshan District Jinhao Wood Factory | 57.36 | 57.07
Smart Gift International | Jiangsu Shuren Wood Industry Co., Ltd | 57.36 | 57.07
Smart Gift International | Jiangsu Sending Wood Industry Co., Ltd | 57.36 | 57.07
Suining Pengxiang Wood Co., Ltd | Suining Pengxiang Wood Co., Ltd | 57.36 | 57.07
Sumec International Technology Co., Ltd | Suqian Huilin Wood Industry Co., Ltd | 57.36 | 57.07
Sumec International Technology Co., Ltd | Shandong Junxing Wood Industry Co., Ltd | 57.36 | 57.07
Sumec International Technology Co., Ltd | Linyi Longxin Wood Industry Co., Ltd | 57.36 | 57.07
Sumec International Technology Co., Ltd | Linyi Xicheng Wood Industry Co., Ltd | 57.36 | 57.07
Sumec International Technology Co., Ltd | Feixian County Mingda Multilayered Board Factory | 57.36 | 57.07
Sumec International Technology Co., Ltd | Linyi Celtic Wood Industry Co., Ltd | 57.36 | 57.07
Sumec International Technology Co., Ltd | Shandong Haote Decorative Materials Co., Ltd | 57.36 | 57.07
Sumec International Technology Co., Ltd | Linyi City Lanshan District Linyu Board Factory | 57.36 | 57.07
Sumec International Technology Co., Ltd | Linyi City Lanshan District Xiangfeng Decorative Board Factory | 57.36 | 57.07
Sumec International Technology Co., Ltd | Linyi City Baoshan Board Factory | 57.36 | 57.07
Sumec International Technology Co., Ltd | Feixian Xingying Wood Industry Co., Ltd | 57.36 | 57.07
Sumec International Technology Co., Ltd | Fengxian Jihe Wood Industry Co., Ltd | 57.36 | 57.07
Sumec International Technology Co., Ltd | Xuzhou Jiangshan Wood Industry Co., Ltd | 57.36 | 57.07
Sumec International Technology Co., Ltd | Xuzhou Senyuan Wood Products Co., Ltd | 57.36 | 57.07
Sumec International Technology Co., Ltd | Xuzhou Jinguoyuan Wood Industry Co., Ltd | 57.36 | 57.07
Sumec International Technology Co., Ltd | Xuzhou Chunyiyang Wood Industry Co., Ltd | 57.36 | 57.07
Sumec International Technology Co., Ltd | Zibo Sumaida Wood Industry Co., Ltd | 57.36 | 57.07
Suqian Hopeway International Trade Co., Ltd | Xuzhou Henglin Wood Co., Ltd | 57.36 | 57.07
Suqian Hopeway International Trade Co., Ltd | Qufu Shengda Wood Co., Ltd | 57.36 | 57.07
Suqian Hopeway International Trade Co., Ltd | Pizhou Xuexin Wood Products Co., Ltd | 57.36 | 57.07
Suqian Hopeway International Trade Co., Ltd | Pizhou Jiangshan Wood Co., Ltd | 57.36 | 57.07
Suqian Hopeway International Trade Co., Ltd | Shandong Union Wood Co., Ltd | 57.36 | 57.07
Suqian Hopeway International Trade Co., Ltd | Linyi City Lanshan District Fubo Wood Factory | 57.36 | 57.07
Suqian Hopeway International Trade Co., Ltd | Linyi Mingzhu Wood Co., Ltd | 57.36 | 57.07
Suqian Hopeway International Trade Co., Ltd | Suzhou Dongsheng Wood Co., Ltd | 57.36 | 57.07
Suqian Hopeway International Trade Co., Ltd | Linyi Jiahe Wood Industry Co., Ltd | 57.36 | 57.07
Suqian Hopeway International Trade Co., Ltd | Linyi Dahua Wood Co., Ltd | 57.36 | 57.07
Suzhou Dongsheng Wood Co., Ltd | Suzhou Dongsheng Wood Co., Ltd | 57.36 | 57.07
Suzhou Fengshuwan Import and Exports Trade Co., Ltd | Xuzhou Henglin Wood Co., Ltd | 57.36 | 57.07
Suzhou Fengshuwan Import and Exports Trade Co., Ltd | Qufu Shengda Wood Co., Ltd | 57.36 | 57.07
Suzhou Fengshuwan Import and Exports Trade Co., Ltd | Pizhou Xuexin Wood Products Co., Ltd | 57.36 | 57.07
Suzhou Fengshuwan Import and Exports Trade Co., Ltd | Pizhou Jiangshan Wood Co. Ltd | 57.36 | 57.07
Suzhou Fengshuwan Import and Exports Trade Co., Ltd | Shandong Union Wood Co. Ltd | 57.36 | 57.07
Suzhou Fengshuwan Import and Exports Trade Co., Ltd | Linyi City Lanshan District Fubo Wood Factory | 57.36 | 57.07
Suzhou Fengshuwan Import and Exports Trade Co., Ltd | Linyi Mingzhu Wood Co., Ltd | 57.36 | 57.07
Suzhou Fengshuwan Import and Exports Trade Co., Ltd | Suzhou Dongsheng Wood Co., Ltd | 57.36 | 57.07
Suzhou Fengshuwan Import and Exports Trade Co., Ltd | Linyi Jiahe Wood Industry Co., Ltd | 57.36 | 57.07
Suzhou Fengshuwan Import and Exports Trade Co., Ltd | Linyi Dahua Wood Co., Ltd | 57.36 | 57.07
Suzhou Oriental Dragon Import and Export Co., Ltd | Linyi Tiancai Timber Co., Ltd | 57.36 | 57.07
Suzhou Oriental Dragon Import and Export Co., Ltd | Lingyi Huasheng Yongbin Wood Co., Ltd | 57.36 | 57.07
Suzhou Oriental Dragon Import and Export Co., Ltd | Linyi Xicheng Wood Products Co., Ltd | 57.36 | 57.07
Suzhou Oriental Dragon Import and Export Co., Ltd | Linyi Longxin Wood Co., Ltd | 57.36 | 57.07
Suzhou Oriental Dragon Import and Export Co., Ltd | Linyi Oriental Fuchao Wood Co., Ltd | 57.36 | 57.07
Suzhou Oriental Dragon Import and Export Co., Ltd | Linyi Qianfeng Wood Co., Ltd | 57.36 | 57.07
Suzhou Oriental Dragon Import and Export Co., Ltd | Feixian Wanda Wood Factory | 57.36 | 57.07
Suzhou Oriental Dragon Import and Export Co., Ltd | Shandong Union Wood Co., Ltd | 57.36 | 57.07
Suzhou Oriental Dragon Import and Export Co., Ltd | Shandong Jinqiu Wood Corporation | 57.36 | 57.07
Suzhou Oriental Dragon Import and Export Co., Ltd | Yinhe Machinery Chemical Limited Company of Shandong Province | 57.36 | 57.07
Suzhou Oriental Dragon Import and Export Co., Ltd | Linyi City Yongsen Wood Corp | 57.36 | 57.07
Suzhou Oriental Dragon Import and Export Co., Ltd | Xuzhou Changcheng Wood Co., Ltd | 57.36 | 57.07
Suzhou Oriental Dragon Import and Export Co., Ltd | Pizhou Fushen Wood Co., Ltd | 57.36 | 57.07
Suzhou Oriental Dragon Import and Export Co., Ltd | Pizhou Yuanxing Wood Co., Ltd | 57.36 | 57.07
Suzhou Oriental Dragon Import and Export Co., Ltd | Xuzhou Yuantai Wood Co., Ltd | 57.36 | 57.07
Suzhou Oriental Dragon Import and Export Co., Ltd | Xuzhou Hongfu Wood Co., Ltd | 57.36 | 57.07
Suzhou Oriental Dragon Import and Export Co., Ltd | Feng County Shuangxingyuan Wood | 57.36 | 57.07
Suzhou Oriental Dragon Import and Export Co., Ltd | Anhui Fuyang Qinglin Wood Products Co., Ltd | 57.36 | 57.07
Suzhou Oriental Dragon Import and Export Co., Ltd | Linyi Dahua Wood Co., Ltd | 57.36 | 57.07
Suzhou Oriental Dragon Import and Export Co., Ltd | Juxian Dechang Wood Co., Ltd | 57.36 | 57.07
Suzhou Oriental Dragon Import and Export Co., Ltd | Feixian Jinhao Wood Board Plant | 57.36 | 57.07
Suzhou Oriental Dragon Import and Export Co., Ltd | Siyang Dahua Plywood Plant | 57.36 | 57.07
Suzhou Oriental Dragon Import and Export Co., Ltd | Linyi Lanshan District Fubo Woods Factory | 57.36 | 57.07
Suzhou Oriental Dragon Import and Export Co., Ltd | Xuzhou Deheng Wood Co., Ltd | 57.36 | 57.07
Suzhou Oriental Dragon Import and Export Co., Ltd | Linyi Kaifeng Wood Board Factory | 57.36 | 57.07
Suzhou Oriental Dragon Import and Export Co., Ltd | Linyi Zhenyuan Wood Products Co., Ltd | 57.36 | 57.07
Suzhou Oriental Dragon Import and Export Co., Ltd | Xuzhou Weilin Wood Co., Ltd | 57.36 | 57.07
Suzhou Oriental Dragon Import and Export Co., Ltd | Linyi Tianlu Wood Board Factory | 57.36 | 57.07
Suzhou Oriental Dragon Import and Export Co., Ltd | Linyi Baoshan Board Factory | 57.36 | 57.07
Suzhou Oriental Dragon Import and Export Co., Ltd | Linyi Mingzhu Wood Co., Ltd | 57.36 | 57.07
Suzhou Oriental Dragon Import and Export Co., Ltd | Xinyi Chaohua Wood Co., Ltd | 57.36 | 57.07
Suzhou Oriental Dragon Import and Export Co., Ltd | Pizhou Jinguoyuan Wood Co., Ltd | 57.36 | 57.07
Suzhou Oriental Dragon Import and Export Co., Ltd | Feng County Jihe Wood Co., Ltd | 57.36 | 57.07
Suzhou Oriental Dragon Import and Export Co., Ltd | Dangshan County Weidi Wood Co., Ltd | 57.36 | 57.07
Suzhou Oriental Dragon Import and Export Co., Ltd | Zhucheng Runheng Industrial and Trading Co., Ltd | 57.36 | 57.07
Xuzhou Amish Import & Export Trade Co., Ltd | Xuzhou Amish Import & Export Trade Co., Ltd | 57.36 | 57.07
Xuzhou Andefu Wood Co., Ltd | Fengxian Fangyuan Wood Co., Ltd | 57.36 | 57.07
Xuzhou Baoqi Wood Product Co., Ltd | Linyi Jinghai Board Plant | 57.36 | 57.07
Xuzhou Baoqi Wood Product Co., Ltd | Linyi Lanshan Yulin Board Plant | 57.36 | 57.07
Xuzhou Dilun Wood Co. Ltd | Xuzhou Dilun Wood Co. Ltd | 57.36 | 57.07
Xuzhou DNT Commercial Co., Ltd | Xuzhou Longyuan Wood Industry Co., Ltd | 57.36 | 57.07
Xuzhou DNT Commercial Co., Ltd | Linyi Changcheng Wood Co., Ltd | 57.36 | 57.07
Xuzhou DNT Commercial Co., Ltd | Feixian Jinde Wood Co., Ltd | 57.36 | 57.07
Xuzhou DNT Commercial Co., Ltd | Suzhou Dongsheng Wood Co., Ltd | 57.36 | 57.07
Xuzhou DNT Commercial Co., Ltd | Fengxian Fangyuan Wood Co., Ltd | 57.36 | 57.07
Xuzhou DNT Commercial Co., Ltd | Xuzhou City Hengde Wood Products Co., Ltd | 57.36 | 57.07
Xuzhou DNT Commercial Co., Ltd | Pizhou Jiangshan Wood Co., Ltd | 57.36 | 57.07
Xuzhou DNT Commercial Co., Ltd | Linyi Huasheng Yongbin Wood Corp | 57.36 | 57.07
Xuzhou DNT Commercial Co., Ltd | Pizhou Jinguoyuan Wood Co., Ltd | 57.36 | 57.07
Xuzhou DNT Commercial Co., Ltd | Linyi Mingzhu Wood Co., Ltd | 57.36 | 57.07
Xuzhou DNT Commercial Co., Ltd | Linyi Renlin Wood Industry Co., Ltd | 57.36 | 57.07
Xuzhou DNT Commercial Co., Ltd | Binzhou Yongsheng Artificial Board Industrial & Training Co., Ltd | 57.36 | 57.07
Xuzhou DNT Commercial Co., Ltd | Xuzhou Zhongcai Wood Co., Ltd | 57.36 | 57.07
Xuzhou DNT Commercial Co., Ltd | Anhui Xinyuanda Wood Co., Ltd | 57.36 | 57.07
Xuzhou DNT Commercial Co., Ltd | Shandong Lianbang Wood Co., Ltd | 57.36 | 57.07
Xuzhou DNT Commercial Co., Ltd | Linyi Xinrui Wood Co., Ltd | 57.36 | 57.07
Xuzhou DNT Commercial Co., Ltd | Shandong Huashi Lvyuan Wood Co., Ltd | 57.36 | 57.07
Xuzhou DNT Commercial Co., Ltd | Xuzhou Fuyu Wood Co., Ltd | 57.36 | 57.07
Xuzhou DNT Commercial Co., Ltd | Linyi Dazhong Wood Co., Ltd | 57.36 | 57.07
Xuzhou DNT Commercial Co., Ltd | Shandong Junxing Wood Co., Ltd | 57.36 | 57.07
Xuzhou DNT Commercial Co., Ltd | Linyi City Lanshan District Linyu Plywood Factory | 57.36 | 57.07
Xuzhou DNT Commercial Co., Ltd | Linyi City Dongfang Fuchao Wood Co., Ltd | 57.36 | 57.07
Xuzhou DNT Commercial Co., Ltd | Linyi Dahua Wood Co., Ltd | 57.36 | 57.07
Xuzhou DNT Commercial Co., Ltd | Linyi Qianfeng Wood Co., Ltd | 57.36 | 57.07
Xuzhou DNT Commercial Co., Ltd | Xuzhou Zhongtong Wood Co., Ltd | 57.36 | 57.07
Xuzhou DNT Commercial Co., Ltd | Shandong Oufan Wood Co., Ltd | 57.36 | 57.07
Xuzhou DNT Commercial Co., Ltd | Shandong Jubang Wood Co., Ltd | 57.36 | 57.07
Xuzhou DNT Commercial Co., Ltd | Xuzhou Changcheng Wood Products Co., Ltd | 57.36 | 57.07
Xuzhou DNT Commercial Co., Ltd | Feixian Jinhao Wood Board Plant | 57.36 | 57.07
Xuzhou DNT Commercial Co., Ltd | Feixian Huafeng Wood Co., Ltd | 57.36 | 57.07
Xuzhou DNT Commercial Co., Ltd | Dhanshan County Weidi Wood Co., Ltd | 57.36 | 57.07
Xuzhou DNT Commercial Co., Ltd | Xuzhou Hongmei Wood Development Co., Ltd | 57.36 | 57.07
Xuzhou Eastern Huatai International Trading Co., Ltd | Xuzhou Well-Done Wood Co., Ltd | 57.36 | 57.07
Xuzhou Eastern Huatai International Trading Co., Ltd | Linyi Longxin Wood Co., Ltd | 57.36 | 57.07
Xuzhou Eastern Huatai International Trading Co., Ltd | Linyi Xicheng Wood Co., Ltd | 57.36 | 57.07
Xuzhou Eastern Huatai International Trading Co., Ltd | Xuzhou Hongfu Wood Co., Ltd | 57.36 | 57.07
Xuzhou Eastern Huatai International Trading Co., Ltd | Oufan Wooden Products Shandong Co., Ltd | 57.36 | 57.07
Xuzhou Eastern Huatai International Trading Co., Ltd | Dangshan Weidi Wood Co., Ltd | 57.36 | 57.07
Xuzhou Eastern Huatai International Trading Co., Ltd | Xu Zhou Chang Cheng Wood Co, Ltd | 57.36 | 57.07
Xuzhou Hansun Import & Export Co. Ltd | XuZhou Zhongyuan Wood Co., Ltd | 57.36 | 57.07
Xuzhou Jiangheng Wood Products Co., Ltd | Xuzhou Jiangheng Wood Products Co., Ltd | 57.36 | 57.07
Xuzhou Jiangyang Wood Industries Co., Ltd | Xuzhou Jiangyang Wood Industries Co., Ltd | 57.36 | 57.07
Xuzhou Longyuan Wood Industry Co., Ltd | Xuzhou Longyuan Wood Industry Co., Ltd | 57.36 | 57.07
Xuzhou Maker's Mark Building Materials Co., Ltd | Xuzhou Qinglin Wood Co., Ltd | 57.36 | 57.07
Xuzhou Maker's Mark Building Materials Co., Ltd | Xuzhou Maomei Wood Co., Ltd | 57.36 | 57.07
Xuzhou Maker's Mark Building Materials Co., Ltd | Suzhou Jiakaide Wood Co., Ltd | 57.36 | 57.07
Xuzhou Pinlin International Trade Co., Ltd | Xuzhou Longyuan Wood Industry Co., Ltd | 57.36 | 57.07
Xuzhou Pinlin International Trade Co., Ltd | Linyi Changcheng Wood Co., Ltd | 57.36 | 57.07
Xuzhou Pinlin International Trade Co., Ltd | Feixian Jinde Wood Co., Ltd | 57.36 | 57.07
Xuzhou Pinlin International Trade Co., Ltd | Suzhou Dongsheng Wood Co., Ltd | 57.36 | 57.07
Xuzhou Pinlin International Trade Co., Ltd | Fengxian Fangyuan Wood Co., Ltd | 57.36 | 57.07
Xuzhou Pinlin International Trade Co., Ltd | Xuzhou City Hengde Wood Products Co., Ltd | 57.36 | 57.07
Xuzhou Pinlin International Trade Co., Ltd | Pizhou Jiangshan Wood Co., Ltd | 57.36 | 57.07
Xuzhou Pinlin International Trade Co., Ltd | Linyi Huasheng Yongbin Wood Corp | 57.36 | 57.07
Xuzhou Pinlin International Trade Co., Ltd | Pizhou Jinguoyuan Wood Co., Ltd | 57.36 | 57.07
Xuzhou Pinlin International Trade Co., Ltd | Linyi Mingzhu Wood Co., Ltd | 57.36 | 57.07
Xuzhou Pinlin International Trade Co., Ltd | Linyi Renlin Wood Industry Co., Ltd | 57.36 | 57.07
Xuzhou Pinlin International Trade Co., Ltd | Binzhou Yongsheng Artificial Board Industrial & Training Co., Ltd | 57.36 | 57.07
Xuzhou Pinlin International Trade Co., Ltd | Xuzhou Zhongcai Wood Co., Ltd | 57.36 | 57.07
Xuzhou Pinlin International Trade Co., Ltd | Anhui Xinyuanda Wood Co., Ltd | 57.36 | 57.07
Xuzhou Pinlin International Trade Co., Ltd | Shandong Lianbang Wood Co., Ltd | 57.36 | 57.07
Xuzhou Pinlin International Trade Co., Ltd | Linyi Xinrui Wood Co., Ltd | 57.36 | 57.07
Xuzhou Pinlin International Trade Co., Ltd | Shandong Huashi Lvyuan Wood Co., Ltd | 57.36 | 57.07
Xuzhou Pinlin International Trade Co., Ltd | Xuzhou Fuyu Wood Co., Ltd | 57.36 | 57.07
Xuzhou Pinlin International Trade Co., Ltd | Linyi Dazhong Wood Co., Ltd | 57.36 | 57.07
Xuzhou Pinlin International Trade Co., Ltd | Shandong Junxing Wood Co., Ltd | 57.36 | 57.07
Xuzhou Pinlin International Trade Co., Ltd | Linyi City Lanshan District Linyu Plywood Factory | 57.36 | 57.07
Xuzhou Pinlin International Trade Co., Ltd | Linyi City Dongfang Fuchao Wood Co., Ltd | 57.36 | 57.07
Xuzhou Pinlin International Trade Co., Ltd | Linyi Dahua Wood Co., Ltd | 57.36 | 57.07
Xuzhou Pinlin International Trade Co., Ltd | Linyi Qianfeng Wood Co., Ltd | 57.36 | 57.07
Xuzhou Pinlin International Trade Co., Ltd | Xuzhou Zhongtong Wood Co., Ltd | 57.36 | 57.07
Xuzhou Pinlin International Trade Co., Ltd | Shandong Oufan Wood Co., Ltd | 57.36 | 57.07
Xuzhou Pinlin International Trade Co., Ltd | Shandong Jubang Wood Co., Ltd | 57.36 | 57.07
Xuzhou Pinlin International Trade Co., Ltd | Xuzhou Changcheng Wood Products Co., Ltd | 57.36 | 57.07
Xuzhou Pinlin International Trade Co., Ltd | Feixian Jinhao Wood Board Plant | 57.36 | 57.07
Xuzhou Pinlin International Trade Co., Ltd | Feixian Huafeng Wood Co., Ltd | 57.36 | 57.07
Xuzhou Pinlin International Trade Co., Ltd | Dhanshan County Weidi Wood Co., Ltd | 57.36 | 57.07
Xuzhou Pinlin International Trade Co., Ltd | Xuzhou Hongmei Wood Development Co., Ltd | 57.36 | 57.07
Xuzhou Shenghe Wood Co. Ltd | Xuzhou Shenghe Wood Co. Ltd | 57.36 | 57.07
Xuzhou Shengping Imp and Exp Co., Ltd | Xuzhou Longyuan Wood Industry Co., Ltd | 57.36 | 57.07
Xuzhou Shuiwanxing Trading Co., Ltd | Fengxian Jihe Wood Industry Co. Ltd | 57.36 | 57.07
Xuzhou Shuner Import & Export Trade Co. Ltd | Pizhou Fushen Wood Co. Ltd | 57.36 | 57.07
Xuzhou Tianshan Wood Co., Ltd | Xuzhou Tianshan Wood Co., Ltd | 57.36 | 57.07
Xuzhou Timber International Trade Co., Ltd | Xuzhou Jiangheng Wood Products Co., Ltd | 57.36 | 57.07
Xuzhou Timber International Trade Co., Ltd | Xuzhou Jiangyang Wood Industries Co., Ltd | 57.36 | 57.07
Xuzhou Timber International Trade Co., Ltd | Xuzhou Changcheng Wood Co., Ltd | 57.36 | 57.07
Xuzhou Timber International Trade Co., Ltd | Fengxian Shuangxingyuan Wood Co., Ltd | 57.36 | 57.07
Xuzhou Timber International Trade Co., Ltd | Linyi Mingzhu Wood Co., Ltd | 57.36 | 57.07
Xuzhou Timber International Trade Co., Ltd | Linyi City Lanshan District Daqian Wood Board Factory | 57.36 | 57.07
Xuzhou Timber International Trade Co., Ltd | Feixian Hongsheng Wood Co., Ltd | 57.36 | 57.07
Xuzhou Timber International Trade Co., Ltd | Xuzhou Hongwei Wood Co., Ltd | 57.36 | 57.07
Xuzhou Timber International Trade Co., Ltd | Pizhou Jinguoyuan Wood Co., Ltd | 57.36 | 57.07
Xuzhou Timber International Trade Co., Ltd | Linyi Qianfeng Wood Factory | 57.36 | 57.07
Xuzhou Timber International Trade Co., Ltd | Linyi Renlin Wood Industry Co., Ltd | 57.36 | 57.07
Xuzhou Timber International Trade Co., Ltd | Xuzhou Senyuan Wood Products Co., Ltd | 57.36 | 57.07
Xuzhou Timber International Trade Co., Ltd | Jiangsu Lishun Industrial and Trading Co., Ltd | 57.36 | 57.07
Xuzhou Timber International Trade Co., Ltd | Pizhou Xuexin Wood Industry Co., Ltd | 57.36 | 57.07
Xuzhou Timber International Trade Co., Ltd | Feixian Hongjing Board Factory | 57.36 | 57.07
Xuzhou Timber International Trade Co., Ltd | Xuzhou Jiaqiang Wood Industry Co., Ltd | 57.36 | 57.07
Xuzhou Timber International Trade Co., Ltd | Shandong Shelter Forest Products Co., Ltd | 57.36 | 57.07
Xuzhou Timber International Trade Co., Ltd | Jiangsu Binsong Wood Co., Ltd | 57.36 | 57.07
Yangzhou Hanov International Co., Ltd | Linyi Longxin Wood Co., Ltd | 57.36 | 57.07
Yishui Zelin Wood Made Co., Ltd | Yishui Zelin Wood Made Co., Ltd | 57.36 | 57.07
Zhejiang Dehua TB Import & Export Co., Ltd | Dehua TB New Decoration Material Co., Ltd | 57.36 | 57.07
Zhejiang Dehua TB Import & Export Co., Ltd | Zhangjiagang Jiuli Wood Co., Ltd | 57.36 | 57.07
PRC-WIDE ENTITY 9 |  | 114.72 | 114.72

⁹ As detailed in the Preliminary Decision Memorandum, Bayley, a mandatory respondent in this investigation, and certain separate-rate respondents did not demonstrate that they were entitled to a separate rate. Accordingly, we consider these companies to be part of the PRC-wide entity. As discussed below, we have made an affirmative critical circumstances determination with regard to the PRC-wide entity.

Consistent with section 733(b)(3) of the Act, the Department disregards de minimis rates and preliminarily determines that the individually examined respondent with a de minimis rate has not made sales of subject merchandise at LTFV.

Suspension of Liquidation

In accordance with section 733(d)(2) of the Act, the Department will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), the Department will instruct CBP to require a cash deposit equal to the weighted average amount by which normal value exceeds U.S. price, as indicated in the chart above as follows: (1) For the producer/exporter combinations listed in the table above, the cash deposit rate is equal to the estimated weighted-average dumping margin listed for that combination in the table; (2) for all combinations of PRC producers/exporters of merchandise under consideration that have not established eligibility for their own separate rates, the cash deposit rate will be equal to the estimated weighted-average dumping margin established for the PRC-wide entity; and (3) for all third-country exporters of merchandise under consideration not listed in the table above, the cash deposit rate is the cash deposit rate applicable to the PRC producer/exporter combination that supplied that third-country exporter.

Because the estimated weighted-average dumping margin for the Linyi Dongfangjuxin Wood Co., Ltd./Linyi Chengen Import and Export Co., Ltd. combination is zero or de minimis (i.e., less than 0.5 percent), the Department is directing CBP not to suspend liquidation of entries of subject merchandise from this producer/exporter combination. Entries of subject merchandise from this exporter supplied by any other producer, or from this producer that supplied any other exporter, or from third-country exporters that sourced from the excluded producer/exporter combination, are not entitled to this exclusion from suspension of liquidation and are subject to the provisional measures at the cash deposit rate established for the PRC-wide entity.

Should the final estimated weighted-average dumping margin be zero or de minimis for the producer/exporter combination identified above, entries of merchandise from this producer/exporter combinations will be excluded from the order. Such exclusion(s) will not be applicable to merchandise exported to the United States by any other producer/exporter combinations or by third-country exporters that sourced from the excluded producer/exporter combination.

Section 733(e)(2) of the Act provides that, given an affirmative determination of critical circumstances, any suspension of liquidation shall apply to unliquidated entries of merchandise entered, or withdrawn from warehouse, for consumption on or after the later of (a) the date which is 90 days before the date on which the suspension of liquidation was first ordered, or (b) the date on which notice of initiation of the investigation was published. The Department preliminarily finds that critical circumstances exist for imports of subject merchandise from the PRC-wide entity, as discussed above.

In accordance with section 733(e)(2)(A) of the Act, the suspension of liquidation shall apply to all unliquidated entries of merchandise from the producer/exporter combinations identified in this paragraph that were entered, or withdrawn from warehouse, for consumption on or after the date which is 90 days before the publication of this notice.

To determine the cash deposit rate, the Department normally adjusts the estimated weighted-average dumping margin by the amount of domestic subsidy pass-through and export subsidies determined in a companion CVD proceeding when CVD provisional measures are in effect. Accordingly, where the Department has made a preliminary affirmative determination for domestic subsidy pass-through or export subsidies, the Department has offset the calculated estimated weighted-average dumping margin by the appropriate rate(s). Any such adjusted rates may be found in the Preliminary Determination Section's chart of estimated weighted-average dumping margins above.

Should provisional measures in the companion CVD investigation expire prior to the expiration of provisional measures in this LTFV investigation, the Department will direct CBP to begin collecting cash deposits at a rate equal to the estimated weighted-average dumping margins calculated in this preliminary determination unadjusted for the passed-through domestic subsidies or for export subsidies at the time the CVD provisional measures expire.

These suspension of liquidation instructions will remain in effect until further notice.

Disclosure

The Department intends to disclose to interested parties the calculations performed in connection with this preliminary determination within five days of its public announcement or, if there is no public announcement, within five days of the date of publication of this notice in accordance with 19 CFR 351.224(b).

Verification

As provided in section 782(i)(1) of the Act, the Department intends to verify information provided by mandatory respondent Linyi Chengen Import and Export Co., Ltd. that it relied upon in making its final determination. Because mandatory respondent Shandong Dongfang Bayley Wood Co., Ltd. did not provide information requested by the Department and the Department preliminarily determines that it has been uncooperative, verification will not be conducted for Shandong Dongfang Bayley Wood Co., Ltd.

Public Comment

Case briefs or other written comments may be submitted to the Assistant Secretary for Enforcement and Compliance no later than seven days after the date on which the last final verification report is issued in this investigation. Rebuttal briefs, limited to issues raised in case briefs, may be submitted no later than five days after the deadline date for case briefs.¹⁰ Pursuant to 19 CFR 351.309(c)(2) and (d)(2), parties who submit case briefs or rebuttal briefs in this investigation are encouraged to submit with each argument: (1) A statement of the issue; (2) a brief summary of the argument; and (3) a table of authorities.

¹⁰ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, the Department intends to hold the hearing at the U.S. Department of Commerce, 1401 Constitution Avenue NW., Washington, DC 20230, at a time and date to be determined. Parties should confirm by telephone the date, time, and location of the hearing two days before the scheduled date.

Final Determination

Section 735(a)(1) of the Act and 19 CFR 351.210(b)(1) provide that the Department will issue the final determination within 75 days after the date of its preliminary determination. Accordingly, the Department will make its final determination no later than 75 days after the signature date of this preliminary determination.

International Trade Commission Notification

In accordance with section 733(f) of the Act, the Department will notify the International Trade Commission (ITC) of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act and 19 CFR 351.205(c).

Dated: June 16, 2017.
Ronald K. Lorentzen,
Acting Assistant Secretary for Enforcement and Compliance.

Appendix I

Scope of the Investigation

The merchandise subject to this investigation is hardwood and decorative plywood, and certain veneered panels as described below. For purposes of this proceeding, hardwood and decorative plywood is defined as a generally flat, multilayered plywood or other veneered panel, consisting of two or more layers or plies of wood veneers and a core, with the face and/or back veneer made of non-coniferous wood (hardwood) or bamboo. The veneers, along with the core may be glued or otherwise bonded together. Hardwood and decorative plywood may include products that meet the American National Standard for Hardwood and Decorative Plywood, ANSI/HPVA HP-1-2016 (including any revisions to that standard).

For purposes of this investigation a “veneer” is a slice of wood regardless of thickness which is cut, sliced or sawed from a log, bolt, or flitch. The face and back veneers are the outermost veneer of wood on either side of the core irrespective of additional surface coatings or covers as described below.

The core of hardwood and decorative plywood consists of the layer or layers of one or more material(s) that are situated between the face and back veneers. The core may be composed of a range of materials, including but not limited to hardwood, softwood, particleboard, or medium-density fiberboard (MDF).

All hardwood plywood is included within the scope of this investigation regardless of whether or not the face and/or back veneers are surface coated or covered and whether or not such surface coating(s) or covers obscures the grain, textures, or markings of the wood. Examples of surface coatings and covers include, but are not limited to: Ultra violet light cured polyurethanes; oil or oil-modified or water based polyurethanes; wax; epoxy-ester finishes; moisture-cured urethanes; paints; stains; paper; aluminum; high pressure laminate; MDF; medium density overlay (MDO); and phenolic film. Additionally, the face veneer of hardwood plywood may be sanded; smoothed or given a “distressed” appearance through such methods as hand-scraping or wire brushing. All hardwood plywood is included within the scope even if it is trimmed; cut-to-size; notched; punched; drilled; or has underwent other forms of minor processing.

All hardwood and decorative plywood is included within the scope of this investigation, without regard to dimension (overall thickness, thickness of face veneer, thickness of back veneer, thickness of core, thickness of inner veneers, width, or length). However, the most common panel sizes of hardwood and decorative plywood are 1219 x 1829 mm (48 x 72 inches), 1219 x 2438 mm (48 x 96 inches), and 1219 x 3048 mm (48 x 120 inches).

Subject merchandise also includes hardwood and decorative plywood that has been further processed in a third country, including but not limited to trimming, cutting, notching, punching, drilling, or any other processing that would not otherwise remove the merchandise from the scope of the investigation if performed in the country of manufacture of the in-scope product.

The scope of the investigation excludes the following items: (1) Structural plywood (also known as “industrial plywood” or “industrial panels”) that is manufactured to meet U.S. Products Standard PS 1-09, PS 2-09, or PS 2-10 for Structural Plywood (including any revisions to that standard or any substantially equivalent international standard intended for structural plywood), and which has both a face and a back veneer of coniferous wood; (2) products which have a face and back veneer of cork; (3) multilayered wood flooring, as described in the antidumping duty and countervailing duty orders on Multilayered Wood Flooring from the People's Republic of China, Import Administration, International Trade Administration. See Multilayered Wood Flooring from the People's Republic of China, 76 FR 76690 (December 8, 2011) (amended final determination of sales at less than fair value and antidumping duty order), and Multilayered Wood Flooring from the People's Republic of China, 76 FR 76693 (December 8, 2011) (countervailing duty order), as amended by Multilayered Wood Flooring from the People's Republic of China: Amended Antidumping and Countervailing Duty Orders, 77 FR 5484 (February 3, 2012); (4) multilayered wood flooring with a face veneer of bamboo or composed entirely of bamboo; (5) plywood which has a shape or design other than a flat panel, with the exception of any minor processing described above; (6) products made entirely from bamboo and adhesives (also known as “solid bamboo”); and (7) Phenolic Film Faced Plyform (PFF), also known as Phenolic Surface Film Plywood (PSF), defined as a panel with an “Exterior” or “Exposure 1” bond classification as is defined by The Engineered Wood Association, having an opaque phenolic film layer with a weight equal to or greater than 90g/m3 permanently bonded on both the face and back veneers and an opaque, moisture resistant coating applied to the edges.

Excluded from the scope of this investigation are wooden furniture goods that, at the time of importation, are fully assembled and are ready for their intended uses. Also excluded from the scope of this investigation is “ready to assemble” (“RTA”) furniture. RTA furniture is defined as (A) furniture packaged for sale for ultimate purchase by an end-user that, at the time of importation, includes (1) all wooden components (in finished form) required to assemble a finished unit of furniture, (2) all accessory parts (e.g., screws, washers, dowels, nails, handles, knobs, adhesive glues) required to assemble a finished unit of furniture, and (3) instructions providing guidance on the assembly of a finished unit of furniture; (B) unassembled bathroom vanity cabinets, having a space for one or more sinks, that are imported with all unassembled hardwood and hardwood plywood components that have been cut-to-final dimensional component shape/size, painted or stained prior to importation, and stacked within a singled shipping package, except for furniture feet which may be packed and shipped separately; or (C) unassembled bathroom vanity linen closets that are imported with all unassembled hardwood and hardwood plywood components that have been cut-to-final dimensional shape/size, painted or stained prior to importation, and stacked within a single shipping package, except for furniture feet which may be packed and shipped separately.

Excluded from the scope of this investigation are kitchen cabinets that, at the time of importation, are fully assembled and are ready for their intended uses. Also excluded from the scope of this investigation are RTA kitchen cabinets. RTA kitchen cabinets are defined as kitchen cabinets packaged for sale for ultimate purchase by an end-user that, at the time of importation, includes (1) all wooden components (in finished form) required to assemble a finished unit of cabinetry, (2) all accessory parts (e.g., screws, washers, dowels, nails, handles, knobs, hooks, adhesive glues) required to assemble a finished unit of cabinetry, and (3) instructions providing guidance on the assembly of a finished unit of cabinetry.

Excluded from the scope of this investigation are finished table tops, which are table tops imported in finished form with pre-cut or drilled openings to attach the underframe or legs. The table tops are ready for use at the time of import and require no further finishing or processing.

Excluded from the scope of this investigation are finished countertops that are imported in finished form and require no further finishing or manufacturing.

Excluded from the scope of this investigation are laminated veneer lumber door and window components with (1) a maximum width of 44 millimeters, a thickness from 30 millimeters to 72 millimeters, and a length of less than 2413 millimeters (2) water boiling point exterior adhesive, (3) a modulus of elasticity of 1,500,000 pounds per square inch or higher, (4) finger-jointed or lap-jointed core veneer with all layers oriented so that the grain is running parallel or with no more than 3 dispersed layers of veneer oriented with the grain running perpendicular to the other layers; and (5) top layer machined with a curved edge and one or more profile channels throughout.

Imports of hardwood plywood are primarily entered under the following Harmonized Tariff Schedule of the United States (HTSUS) subheadings: 4412.10.0500; 4412.31.0520; 4412.31.0540; 4412.31.0560; 4412.31.0620; 4412.31.0640; 4412.31.0660; 4412.31.2510; 4412.31.2520; 4412.31.2610; 4412.31.2620; 4412.31.4040; 4412.31.4050; 4412.31.4060; 4412.31.4075; 4412.31.4080; 4412.31.4140; 4412.31.4150; 4412.31.4160; 4412.31.4180; 4412.31.5125; 4412.31.5135; 4412.31.5155; 4412.31.5165; 4412.31.5175; 4412.31.5235; 4412.31.5255; 4412.31.5265; 4412.31.5275; 4412.31.6000; 4412.31.6100; 4412.31.9100; 4412.31.9200; 4412.32.0520; 4412.32.0540; 4412.32.0565; 4412.32.0570; 4412.32.0620; 4412.32.0640; 4412.32.0670; 4412.32.2510; 4412.32.2525; 4412.32.2530; 4412.32.2610; 4412.32.2630; 4412.32.3125; 4412.32.3135; 4412.32.3155; 4412.32.3165; 4412.32.3175; 4412.32.3185; 4412.32.3235; 4412.32.3255; 4412.32.3265; 4412.32.3275; 4412.32.3285; 4412.32.5600; 4412.32.3235; 4412.32.3255; 4412.32.3265; 4412.32.3275; 4412.32.3285; 4412.32.5700; 4412.94.1030; 4412.94.1050; 4412.94.3105; 4412.94.3111; 4412.94.3121; 4412.94.3141; 4412.94.3161; 4412.94.3175; 4412.94.4100; 4412.99.0600; 4412.99.1020; 4412.99.1030; 4412.99.1040; 4412.99.3110; 4412.99.3120; 4412.99.3130; 4412.99.3140; 4412.99.3150; 4412.99.3160; 4412.99.3170; 4412.99.4100; 4412.99.5115; and 4412.99.5710.

Imports of hardwood plywood may also enter under HTSUS subheadings 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.99.6000; 4412.99.7000; 4412.99.8000; 4412.99.9000; 4412.10.9000; 4412.94.5100; 4412.94.9500; and 4412.99.9500. While the HTSUS subheadings are provided for convenience and customs purposes, the written description of the scope of this investigation is dispositive.

Appendix II

List of Topics Discussed in the Preliminary Decision Memorandum

I. Summary

II. Background

III. Period of Investigation

IV. Scope Comments

V. Selection of Respondents

VI. Preliminary Determination of Critical Circumstances, In Part

VII. Scope of the Investigation

VIII. Discussion of the Methodology

A. Non-Market Economy Country

B. Surrogate Country and Surrogate Values Comments

C. Separate Rates

D. Combination Rates

E. Affiliation

F. The PRC-wide Entity

G. Application of Facts Available and Adverse Inferences

H. Date of Sale

I. Comparisons to Fair Value

IX. Currency Conversion

X. Export Subsidy Adjustment

XI. Adjustment Under Section 777(A)(F) of the Act

XII. Disclosure and Public Comment

XIII. Verification

XIV. Conclusion

[FR Doc. 2017-13125 Filed 6-22-17; 8:45 am]

BILLING CODE 3510-DS-P